INTERNATIONAL TRADE COMMISSION

[Inv. Nos. TA-131-032 and TA-2104-021]

U.S.-Republic of Korea Free Trade Agreement: Advice Concerning the Probable Economic Effect of Providing Duty-Free Treatment for Imports

AGENCY: United States International Trade Commission.

ACTION: Institution of investigations and scheduling of hearing.

DATES: Effective Date: February 21, 2006.

SUMMARY: Following receipt on February 6, 2006, of a request from the United States Trade Representative (USTR), the Commission instituted investigation Nos. TA-131-032 and TA-2104-021, U.S.-Republic of Korea Free Trade Agreement: Advice Concerning the Probable Economic Effect of Providing Duty-Free Treatment for Imports, under section 131 of the Trade Act of 1974 and section 2104(b)(2) of the Trade Act of 2002.

FOR FURTHER INFORMATION CONTACT: Information specific to these investigations may be obtained from Jonathan Coleman (202-205-3465; jonathan.coleman@usitc.gov) or Brad Gehrke (202-205-3329; brad.gehrke@usitc.gov), Office of Industries, United States International Trade Commission, Washington, DC 20436. For information on the legal aspects of these investigations, contact William Gearhart of the Office of the General Counsel (202-205-3091; william.gearhart@usitc.gov). General information concerning the Commission may also be obtained by accessing its Internet server (http://www.usitc.gov).

Background: On February 2, 2006, the USTR notified the Congress of the President's intent to enter into negotiations for a free trade agreement (FTA) with the Republic of Korea (Korea). Accordingly, the USTR, pursuant to section 131 of the Trade Act of 1974 (19 U.S.C. 2151), requested the Commission to provide a report including advice as to the probable economic effect of providing duty-free treatment for imports of products of Korea (i) on industries in the United States producing like or directly competitive products, and (ii) on consumers. In preparing the advice, the Commission's analysis will consider each article in chapters 1 through 97 of the Harmonized Tariff Schedule of the United States for which U.S. tariffs will remain after the United States fully implements its Uruguay Round tariff commitments. The import advice will be based on the 2006 Harmonized Tariff System nomenclature and 2005 trade data. The advice with respect to the removal of U.S. duties on imports from Korea will assume that any known U.S. nontariff barrier will not be applicable to such imports. The Commission will note in its report any instance in which the continued application of a U.S. nontariff barrier to such imports would result in different advice with respect to the effect on the removal of the duty.

Also as requested, pursuant to section 2104(b)(2) of the Trade Act of 2002 (19 U.S.C. 3804(b)(2)), the Commission will provide advice as to the probable economic effect of eliminating tariffs on imports of certain agricultural products of Korea on (i) industries in the United States producing the product concerned, and (ii) the U.S. economy as a whole.

The Commission expects to provide its report to the USTR by July 14, 2006. The USTR indicated that those sections of the Commission's report that relate to the analysis of probable economic effects will be classified and that it also considers the Commission's report to be an interagency memorandum containing pre-decisional advice and subject to the deliberative process privilege.

Public Hearing: A public hearing in connection with these investigations is scheduled to begin at 9:30 a.m. on April 20, 2006, at the U.S. International Trade Commission Building, 500 E Street, SW., Washington, DC. Requests to appear at the public hearing should be filed with the Secretary, no later than 5:15 p.m., March 29, 2006, in accordance with the requirements in the “Submissions” section below. In the event that, as of the close of business on March 29, 2006, no witnesses are scheduled to appear, the hearing will be canceled. Any person interested in attending the hearing as an observer or non-participant may call the Secretary (202-205-2000) after March 29, 2006 to determine whether the hearing will be held.

Statements and Briefs: In lieu of or in addition to participating in the hearing, interested parties are invited to submit written statements or briefs concerning these investigations in accordance with the requirements in the “Submissions” section below. Any prehearing briefs or statement should be filed not later than 5:15 p.m., April 3, 2006; the deadline for filing post-hearing briefs or statements is 5:15 p.m., April 27, 2006.

Written Submissions: In lieu of or in addition to participating in the hearing, interested parties are invited to submit written statements concerning the matters to be addressed by the Commission in its report on this investigation. Submissions should be addressed to the Secretary, United States International Trade Commission, 500 E Street, SW., Washington, DC 20436. To be assured of consideration by the Commission, written statements related to the Commission's report should be submitted to the Commission at the earliest practical date and should be received no later than 5:15 p.m., April 27, 2006. All written submissions must conform with the provisions of section 201.8 of the Commission's Rules of Practice and Procedure (19 CFR 201.8). Section 201.8 of the rules requires that a signed original (or copy designated as an original) and fourteen (14) copies of each document be filed. In the event that confidential treatment of the document is requested, at least four (4) additional copies must be filed, in which the confidential business information must be deleted (see the following paragraph for further information regarding confidential business information). The Commission's rules do not authorize filing submissions with the Secretary by facsimile or electronic means, except to the extent permitted by section 201.8 of the rules (see Handbook for Electronic Filing Procedures, ftp://ftp.usitc.gov/pub/reports/electronic_filing_handbook.pdf). Persons with questions regarding electronic filing should contact the Secretary (202-205-2000 or edis@usitc.gov).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available in the Office of the Secretary to the Commission for inspection by interested parties.

The Commission may include some or all of the confidential business information submitted in the course of these investigations in the report it sends to the USTR and the President. However, should the Commission publish a public version of this report, such confidential business information will not be published in a manner that would reveal the operations of the firm supplying the information. The public record for this investigation may be viewed on the Commission's electronic docket (EDIS) http://edis.usitc.gov. Hearing impaired individuals may obtain information on this matter by contacting the Commission's TDD terminal on 202-205-1810. Persons with mobility impairments who will need special assistance in gaining access to the Commission should contact the Office of the Secretary at 202-205-2000.

List of Subjects

Korea, tariffs, and imports.

By order of the Commission.
Issued: February 22, 2006.
Marilyn R. Abbott,
Secretary to the Commission.

[FR Doc. E6-2750 Filed 2-27-06; 8:45 am]

BILLING CODE 7020-02-P